ENVIRONMENTAL PROTECTION AGENCY

[ER-FRL-8596-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated July 17, 2009 (74 FR 34754).

Draft EISs

EIS No. 20090156, ERP No. D-NIH-D99002-MD, National Institute of Health (NIH), Transport of Laboratory Personnel Potentially Exposed to Infectious Agents from Fort Detrick, Frederick, MD to the National Institutes of Health Clinical Center, Bethesda, MD.

Summary: EPA does not object to the proposed project. Rating LO.

Final EISs

EIS No. 20090095, ERP No. F-NRC-D06005-PA, GENERIC—License Renewal of Nuclear Plants, Supplement 35 to NUREG-1437, Regarding Susquehanna Steam Electric Station, Units 1 and 2, Issuing Nuclear Power Plant Operating Licenses for a 20-Year Period, PA.

Summary: NRC has accommodated EPA's recommendations regarding historic and archaeological resources as well as pollution prevention measures. EPA does not object to the proposed action.

EIS No. 20090175, ERP No. F-NRC-A09836-00, GENERIC—In-Situ Leach Uranium Milling Facilities (NUREG-1910), Construction, Operation, Aquifer Restoration and Decommissioning, Potentially Location in Portions of WY, NE, SD and NM.

Summary: EPA continues to have environmental concerns about the lack of analysis of impacts of other leaching solutions that are proposed for use including acid lixiviants.

EIS No. 20090185, ERP No. F-COE-D39038-00, PROGRAMMATIC—Oyster Restoration in Chesapeake Bay Including the Use of a Native and/or Nonnative Oyster, Implementation, Chesapeake Bay, MD and VA.

Summary: EPA restated its support for the native only combination Alternative 8A as representing the best choice among the alternatives presented. EPA provided a number of points to be considered as any Record of Decision is prepared and native oyster restoration plans developed.

EIS No. 20090233, ERP No. F-IBR-G39048-NM, Navajo-Gallup Water Supply Project, To Provide a Long-Term (Year 2040) Water Supply, Treatment and Transmission of Municipal and Industrial (M&I) Water to Navajo National and Jicarilla Apache Nation, City of Gallup, New Mexico.

Summary: No formal comment letter was sent to the preparing agency.

EIS No. 20090234, ERP No. F-AFS-J61115-SD, Slate Castle Project Area, Proposes to Implement Multiple Resource Management Actions, Mystic Ranger District, Black Hills National Forest, Pennington County, SD.

Summary: No formal comment letter was sent to the preparing agency.

EIS No. 20090238, ERP No. F-USN-D35063-VA, Norfolk Harbor Channel, Proposed Dredging to Deepen Five Miles of the Federal Navigation Channel in the Elizabeth River from Lamberts Bend to the Norfolk Naval Shipyard (NNSY), Norfolk and Portsmouth, VA.

Summary: EPA's previous concerns have been resolved; therefore, EPA does not object to the proposed action.

EIS No. 20090240, ERP No. F-FHW-E40818-NC, NC-119 Relocation Project, Transportation Improvement from the I-185/40 Interchange Southwest of Mebane to Existing NC-119 south of NC-1918 (Mrs. White Lane) Mebane, Right-of-Way Acquisition, Alamance County, NC.

Summary: EPA continues to have environmental concerns about impacts to streams, agricultural lands, critical water supply areas, and noise receptors.

EIS No. 20090248, ERP No. F-AFS-L65557-OR, Farley Vegetation Management Project, To Conduct Timber Harvest Commercial and Non-Commercial Thinning, Fuels Treatment Prescribed Burning and Reforestation, Desolation Creek, North Fork John Day Ranger District, Umatilla National Forest, Grant County, OR.

Summary: EPA continues to have environmental concerns about the wildfire expectations.

EIS No. 20090255, ERP No. F-BLM-J65496-CO, Canyons of the Ancients National Monument Resource Management Plan, To Address Future Management Options for Approximately 165.00 Acres of Land, Dolores and Montezuma Counties, CO.

Summary: No formal comment letter was sent to the preparing agency.

Dated: August 25, 2009.
Kenneth Mittelholtz,
Deputy Director, NEPA Compliance Division, Office of Federal Activities.

[FR Doc. E9-20810 Filed 8-27-09; 8:45 am]

BILLING CODE 6560-50-P